COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products and services to the Procurement List that were furnished by nonprofit agencies employing persons who are blind or have other severe disabilities.

DATES: Comments must be received on or before: May 10, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and services are proposed for deletion from the Procurement List:

Products

NSNs—Product Names:

6515-00-NIB-8121—Gloves, Surgical, Powder-free, Latex-Free, Sensicare LT Custom Fit with Aloe, White, Size 7″

6515-00-NIB-8122—Gloves, Surgical, Powder-free, Latex-Free, Sensicare LT Custom Fit with Aloe, White, Size 7.5″

6515-00-NIB-8123—Gloves, Surgical, Powder-free, Latex-Free, Sensicare LT Custom Fit with Aloe, White, Size 8″

6515-00-NIB-8124—Gloves, Surgical, Powder-free, Latex-Free, Sensicare LT Custom Fit with Aloe, White, Size 8.5″

6515-00-NIB-0508—Gloves, Surgical, Powder-free, Latex, Triumph Natural, White, Size 5.5″

6515-00-NIB-0509—Gloves, Surgical, Powder-free, Latex, Triumph Natural, White, Size 6″

6515-00-NIB-0510—Gloves, Surgical, Powder-free, Latex, Triumph Natural, White, Size 6.5″

6515-00-NIB-0511—Gloves, Surgical, Powder-free, Latex, Triumph Natural, White, Size 7″

6515-00-NIB-0512—Gloves, Surgical, Powder-free, Latex, Triumph Natural, White, Size 7.5″

6515-00-NIB-0513—Gloves, Surgical, Powder-free, Latex, Triumph Natural, White, Size 8″

6515-00-NIB-0514—Gloves, Surgical, Powder-free, Latex, Triumph Natural, White, Size 8.5″

6515-00-NIB-0515—Gloves, Surgical, Powder-free, Latex, Triumph Natural, White, Size 9″

6515-00-NIB-0516—Gloves, Surgical, Powder-free, Latex, Triumph Green with Aloe, Green, Size 5.5″

6515-00-NIB-0517—Gloves, Surgical, Powder-free, Latex, Triumph Green with Aloe, Green, Size 6″

6515-00-NIB-0518—Gloves, Surgical, Powder-free, Latex, Triumph Green with Aloe, Green, Size 6.5″

6515-00-NIB-0519—Gloves, Surgical, Powder-free, Latex, Triumph Green with Aloe, Green, Size 7″

6515-00-NIB-0520—Gloves, Surgical, Powder-free, Latex, Triumph Green with Aloe, Green, Size 7.5″

6515-00-NIB-0521—Gloves, Surgical, Powder-free, Latex, Triumph Green with Aloe, Green, Size 8″

6515-00-NIB-0522—Gloves, Surgical, Powder-free, Latex, Triumph Green with Aloe, Green, Size 8.5″

6515-00-NIB-0523—Gloves, Surgical, Powder-free, Latex, Triumph Green with Aloe, Green, Size 9″

6515-00-NIB-0524—Gloves, Surgical, Powder-free, Latex, Triumph Ortho with Aloe, Brown, Size 6″

6515-00-NIB-0525—Gloves, Surgical, Powder-free, Latex, Triumph Ortho with Aloe, Brown, Size 6.5″

6515-00-NIB-0526—Gloves, Surgical, Powder-free, Latex, Triumph Ortho with Aloe, Brown, Size 7″

6515-00-NIB-0527—Gloves, Surgical, Powder-free, Latex, Triumph Ortho with Aloe, Brown, Size 7.5″

6515-00-NIB-0528—Gloves, Surgical, Powder-free, Latex, Triumph Ortho with Aloe, Brown, Size 8″

6515-00-NIB-0529—Gloves, Surgical, Powder-free, Latex, Triumph Ortho with Aloe, Brown, Size 8.5″

6515-00-NIB-0530—Gloves, Surgical, Powder-free, Latex, Triumph Ortho with Aloe, Brown, Size 9″

6515-00-NIB-0749—Gloves, Surgical, Powder-free, Latex, Triumph LT, White, Size 5.5″

6515-00-NIB-0750—Gloves, Surgical, Powder-free, Latex, Triumph LT, White, Size 6″

6515-00-NIB-0751—Gloves, Surgical, Powder-free, Latex, Triumph LT, White, Size 6.5″

6515-00-NIB-0752—Gloves, Surgical, Powder-free, Latex, Triumph LT, White, Size 7″

6515-00-NIB-0753—Gloves, Surgical, Powder-free, Latex, Triumph LT, White, Size 7.5″

6515-00-NIB-0754—Gloves, Surgical, Powder-free, Latex, Triumph LT, White, Size 8″

6515-00-NIB-0755—Gloves, Surgical, Powder-free, Latex, Triumph LT, White, Size 8.5″

6515-00-NIB-0756—Gloves, Surgical, Powder-free, Latex, Triumph LT, White, Size 9″

6515-00-NIB-0757—Gloves, Surgical, Powder-free, Latex, Eudermic, Brown, Size 5.5″

6515-00-NIB-0758—Gloves, Surgical, Powder-free, Latex, Eudermic, Brown, Size 6″

6515-00-NIB-0759—Gloves, Surgical, Powder-free, Latex, Eudermic, Brown, Size 6.5″

6515-00-NIB-0760—Gloves, Surgical, Powder-free, Latex, Eudermic, Brown, Size 7″

6515-00-NIB-0761—Gloves, Surgical, Powder-free, Latex, Eudermic, Brown, Size 7.5″

6515-00-NIB-0762—Gloves, Surgical, Powder-free, Latex, Eudermic, Brown, Size 8″

6515-00-NIB-0763—Gloves, Surgical, Powder-free, Latex, Eudermic, Brown, Size 8.5″

6515-00-NIB-0764—Gloves, Surgical, Powder-free, Latex, Eudermic, Brown, Size 9″

6515-00-NIB-8108—Gloves, Surgical, Powder-free, Latex, Triumph Classic, White, Size 5.5″

6515-00-NIB-8109—Gloves, Surgical, Powder-free, Latex, Triumph Classic, White, Size 6″

6515-00-NIB-8110—Gloves, Surgical, Powder-free, Latex, Triumph Classic, White, Size 6.5″

6515-00-NIB-8111—Gloves, Surgical, Powder-free, Latex, Triumph Classic, White, Size 8.5″

6515-00-NIB-8112—Gloves, Surgical, Powder-free, Latex, Triumph Classic, White, Size 9″

6515-00-NIB-8149—Gloves, Surgical, Powder-free, Latex, Triumph Classic, White, Size 7″

6515-00-NIB-8150—Gloves, Surgical, Powder-free, Latex, Triumph Classic, White, Size 7.5″

6515-00-NIB-8151—Gloves, Surgical, Powder-free, Latex, Triumph Classic, White, Size 8″

6515-00-NIB-8152—Gloves, Surgical, Powder-free, Latex, Radion-X, Khaki, Size 6.5″

6515-00-NIB-8153—Gloves, Surgical, Powder-free, Latex, Radion-X, Khaki, Size 7″

6515-00-NIB-8154—Gloves, Surgical, Powder-free, Latex, Radion-X, Khaki, Size 7.5″

6515-00-NIB-8155—Gloves, Surgical, Powder-free, Latex, Radion-X, Khaki, Size 8″

6515-00-NIB-8156—Gloves, Surgical, Powder-free, Latex, Radion-X, Khaki, Size 8.5″

6515-00-NIB-8157—Gloves, Surgical, Powder-free, Latex, Radion-X, Khaki, Size 9″

Mandatory Source of Supply: BOSMA Enterprises, Indianapolis, IN

Contracting Activity: STRATEGIC ACQUISITION CENTER, FREDERICKSBURG, VA

NSNs—Product Names:

7510-01-600-7621—Wall Calendar, Dated 2019, Wire Bound w/Hanger, 12″ x 17″

Mandatory Source of Supply: Chicago Lighthouse Industries, Chicago, IL

Contracting Activity: GSA/FAS ADMIN SVCS ACQUISITION BR(2, NEW YORK, NY

NSNs—Product Names:

8340-00-485-3012—Tarpaulin, Flyer's Emergency

Mandatory Source of Supply: L. E. Phillips Career Development Center, Inc., Eau Claire, WI

Contracting Activity: DLA TROOP SUPPORT, PHILADELPHIA, PA

NSNs—Product Names:

6230-00-NSH-0011—Flashlight, Magnet Type, Krypton Bulb

6230-01-465-7180—Flashlight, Krypton Bulb

Mandatory Source of Supply: Development Workshop, Inc., Idaho Falls, ID

Contracting Activity: STRATEGIC ACQUISITION CENTER, FREDERICKSBURG, VA

Services

Service Type: Custodial Services

Mandatory for: U.S. Geological Survey—Warehouse: Huffman Business Park, Building P, Anchorage, AK

Mandatory for: U.S. Geological Survey—Warehouse: 800 Ship Creek Avenue (USGS Storage Area), Anchorage, AK

Mandatory Source of Supply: Assets, Inc., Anchorage, AK

Contracting Activity: OFFICE OF POLICY, MANAGEMENT, AND BUDGET, NBC ACQUISITION SERVICES DIVISION

Michael R. Jurkowski,
Deputy Director, Business & PL Operations.

[FR Doc. 2020-07568 Filed 4-9-20; 8:45 am]

BILLING CODE P